DEPARTMENT OF THE TREASURY

United States Mint

Information Collection Request

AGENCY: United States Mint, Department of the Treasury.

ACTION: Extension of public comment period.

SUMMARY: This document announces an extension of the time period for submitting comments on the notice, published on April 10, 2014, regarding factors identified as a result of the bureau's research and development efforts on alternative metals for circulating United States coinage.

The comment period is extended to Tuesday, June 24, 2014. The United States Mint is seeking input on specific factors the United States Mint identified in its Alternatives Metal Study submitted to Congress in December 2012. This study is available at the following Web site: http://www.usmint.gov/about_the_mint/PDFs/United_States_Mint_Report_2012_Biennial_Report_to_the_Congress_on_the_Current_Status_of_Coin_Production_Costs_and_Analysis_of_Alternative_Content_December_2012.pdf, These factors include changes in weight, color, electromagnetic signature, environmental impact, and transition/implementation period.

DATES: The comment period for the notice regarding factors identified in the United States Mint's Alternative Metals Study published April 10, 2014 (79 FR 19971) is extended to June 24, 2014.

ADDRESSES: Submit electronic comments to Coin.StakeholdersResponse@usmint.treas.gov. Submit all written comments to Coin Stakeholders Response; Office of Coin Studies; United States Mint; 801 9th Street NW., Washington, DC 20220.

SUPPLEMENTARY INFORMATION: On April 10, 2014, the United States Mint published a request for comment in the Federal Register (79 FR 19971). The notice requested comment from coin industry stakeholders no later than 60 days from publication, June 10, 2014, regarding the following specific factors:

Costs to convert to circulating coins composed of alternative metals given the following possible changes to coins:

○ Weight

○ Electromagnetic signature

○ Visual changes, such as color and relief

• Transition time needed to introduce a circulating coin composed of an alternative metal

• Comments on how best to inform and educate both affected industries and the public on changes to circulating coins

• Environmental impact from the use of circulating coins composed of alternative metals

• Other issues of importance not identified above

The National Armored Carriers Association (NACA) requested the United States Mint extend the comment period by 60 days. NACA stated that the additional time is necessary to provide an appropriate and comprehensive response.

Based on the NACA's request, the United States Mint believes that extending the comment period to allow additional time for coin industry stakeholders to submit comments is appropriate. Therefore, the United States Mint is extending the comment period until Tuesday, June 24, 2014, to provide stakeholders additional time to prepare and submit comments and will consider any comments received by that date.

FOR FURTHER INFORMATION CONTACT: Office of Coin Studies by calling 202-354-6600.

Authority: Public Law 111-302, section 2(a)(2) & (b)(3); 31 U.S.C. 5112(p)(3)(A)

Dated: May 29, 2014.
Richard A. Peterson,
Deputy Director, United States Mint.

[FR Doc. 2014-12853 Filed 6-3-14; 8:45 am]

BILLING CODE; P